DEPARTMENT OF COMMERCE

National Oceanic and Atmospheric Administration

RIN 0648-XD859

Caribbean Fishery Management Council; Public Meeting

AGENCY: National Marine Fisheries Service (NMFS), National Oceanic and Atmospheric Administration (NOAA), Commerce.

ACTION: Notice of public meeting.

SUMMARY: The Caribbean Fishery Management Council (Council) will hold its 152nd meeting.

DATES: The meeting will be held on April 21-22, 2015. The Council will convene on Tuesday, April 21, 2014, from 9 a.m. to 6 p.m., and will reconvene on Wednesday, April 22, 2015, from 9 a.m. to 5 p.m.

ADDRESSES: The meeting will be held at the Divi Carina Beach Resort and Casino, 25 Estate Turner Hole, Christiansted, St. Croix, USVI 00820.

FOR FURTHER INFORMATION CONTACT: Caribbean Fishery Management Council, 270 Muñoz Rivera Avenue, Suite 401, San Juan, Puerto Rico 00918; telephone: (787) 766-5926.

SUPPLEMENTARY INFORMATION: The Council will hold its 152nd regular Council Meeting to discuss the items contained in the following agenda:

April 21, 2015, 9 a.m.-5 p.m.

Call to Order

Adoption of Agenda

Consideration of 151st Council Meeting Verbatim Transcriptions

Executive Director's Report

SSC National Workshop Report—Dr. Richard Appeldoorn

SSC Meeting Report—Dr. Richard Appeldoorn

Island-Based Fishery Management-Species Selection Criteria Development

• Outcomes from the March 2015 DAP and SSC Meetings

-input from each of the three DAPs

-input from SSC

• Review Proposed Options, Provide Guidance for Inclusion/Exclusion/Addition

• Discuss Options and Next Steps in Continuing the Development of this Initiative.

Update on Timing of Accountability Measure-based Closures Action

• Outcomes from the March 2015 DAP Meetings—input from each of the three DAPs regarding the options for times to schedule closures for each of the alternatives laid out in the Options paper (islands/island groups and ACL groupings)

• Review Proposed Options, Provide Guidance for Inclusion/Exclusion/Addition

• Discuss Next Steps

Update on Puerto Rico Commercial Landings 2011-13, and Comparison to Annual Catch Limits Permits Scoping Paper

• Report from USVI and Puerto Rico Regarding State Perspectives on Permits

• Review Outcomes from March Scoping Meetings

• Discuss Options and Next Steps in Continuing the Development of this Initiative

Emergency Rule to Prohibit Sea Cucumber and Sea Urchin Harvest from U.S. Caribbean EEZ Waters

• Report on Availability of Pertinent Landings Data

• Status and Next Steps

Modifications to Accountability Measure Guidance in FMPs

• Council Receives Update on Development of Plan Amendments

ABC Control Rule for Data-Poor Stocks

• Report from SSC

Abrir/Bajo/Tourmaline consistency of regulations

• Consider Outcomes from February Public Meetings in Mayaguez and Cabo Rojo, Puerto Rico

• Evaluate and Confirm, or Modify, Alternatives Including Preferred Alternatives.

PUBLIC COMMENT PERIOD (5-minutes presentations)

April 21, 2015, 5:15 p.m.-6 p.m.

Administrative Matters

-Budget Update FY 2014/15

-SOPPs Approval for Submission to NOAA Fisheries

-Closed Session:

-Membership of Island-Based District Advisory Panels (DAPs) and Consideration of Terms of Reference for Winter 2015 DAP Meetings

-SSC/OEAP Memberships

April 22, 2015, 9 a.m.-5 p.m.

Report on Stock Assessment Results and Plan Actions from the SEFSC's Stock Assessment Programmatic Review

Update on Project Entitled: “Connecting Fishers and Fisheries Data Using a Cooperative Gear Development Project to Improve Catch Reporting”—Anthony Iarocci

Request by Puerto Rico West Coast Fishers on Trammel Net Phase Out

Revision of ACLs for Puerto Rico—Eugenio Piñeiro

Proposed Rule to Revise the National Standard 1, 3, and 7 Guidelines

Continuing Research: Assessing Queen Conch Home Range, Habitat and Movement in the USVI—Jennifer Doerr and Ron Hill

MERP Report

Outreach and Education Report—Dr. Alida Ortíz

Enforcement Issues:

-Puerto Rico-DNER

-U.S. Virgin Islands-DPNR

-U.S. Coast Guard

-NMFS/NOAA

Meetings Attended by Council Members and Staff

PUBLIC COMMENT PERIOD (5-minute presentations)

Other Business

Next Council Meeting

The established times for addressing items on the agenda may be adjusted as necessary to accommodate the timely completion of discussion relevant to the agenda items. To further accommodate discussion and completion of all items on the agenda, the meeting may be extended from, or completed prior to the date established in this notice.

The meeting is open to the public, and will be conducted in English. Fishers and other interested persons are invited to attend and participate with oral or written statements regarding agenda issues.

Although non-emergency issues not contained in this agenda may come before this group for discussion, those issues may not be subjects for formal action during this meeting. Actions will be restricted to those issues specifically identified in this notice, and any issues arising after publication of this notice that require emergency action under section 305(c) of the Magnuson-Stevens Fishery Conservation and Management Act, provided that the public has been notified of the Council's intent to take final action to address the emergency.

Special Accommodations

The meeting is physically accessible to people with disabilities. For more information or request for sign language interpretation and/other auxiliary aids, please contact Mr. Miguel A. Rolón, Executive Director, Caribbean Fishery Management Council, 270 Muñoz Rivera Avenue, Suite 401, San Juan, Puerto Rico, 00918, telephone (787) 766-5926, at least 5 days prior to the meeting date.

Dated: March 31, 2015.
Tracey L. Thompson,
Acting DeputyDirector, Office of Sustainable Fisheries, National Marine Fisheries Service.

[FR Doc. 2015-07684 Filed 4-2-15; 8:45 am]

BILLING CODE 3510-22-P